DEPARTMENT OF ENERGY

Federal Energy Regulatory Commission

[Docket No. RP01-54-000]

El Paso Natural Gas Company; Notice of Transportation Service Agreement

October 19, 2000.

Take notice that on October 13, 2000, El Paso Natural Gas Company (El Paso) tendered for filing an amended and restated firm Transportation Service Agreement (TSA) between El Paso and MGI Supply, Ltd. (MGI).

El Paso states that it is submitting the TSA for Commission approval since the TSA revises the rate provisions of an executed service agreement on file with the Commission. The TSA is proposed to become effective on October 8, 2000.

Any person desiring to be heard or to protest said filing should file a motion to intervene or a protest with the Federal Energy Regulatory Commission, 888 First Street, NE., Washington, DC 20426, in accordance with Sections 385.214 or 385.211 of the Commission's Rules and Regulations. All such motions or protests must be filed on or before October 26, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27344 Filed 10-24-00; 8:45 am]

BILLING CODE 6717-01-M